SECURITIES AND EXCHANGE COMMISSION

[Release Nos. 33-8607; 34-52329, File No. 265-23]

Advisory Committee on Smaller Public Companies

AGENCY: Securities and Exchange Commission.

ACTION: Notice of Meeting of SEC Advisory Committee on Smaller Public Companies.

The Securities and Exchange Commission Advisory Committee on Smaller Public Companies is providing notice that it will hold a public meeting on Monday, September 19, and Tuesday, September 20, 2005, at the Hyatt at Fisherman's Wharf Hotel, 555 North Point Street, San Francisco, California 94133. The meeting is scheduled for 8 a.m. to 12:30 p.m. on Monday, September 19, and from 10:15 a.m. to 3:30 p.m., with a one-hour break for lunch from 12:30 to 1:30 p.m., on Tuesday, September 20. The meeting will be audio webcast on the Commission's Web site at www.sec.gov.

The agenda for the Monday, September 19, session includes hearing oral testimony by participating in roundtables with participants in the SEC Government-Business Forum on Small Business Capital Formation. The roundtables will focus on the process of capital formation for smaller companies since the enactment of the Sarbanes-Oxley Act of 2002. The agenda for the Tuesday, September 20, session includes considering written statements that have been filed with the Advisory Committee in connection with the meeting and considering reports of subcommittees of the Advisory Committee. The Advisory Committee will also consider on Tuesday any recommendations proposed by Members or Official Observers for adoption by the full Advisory Committee.

DATES: Written statements should be received on or before September 12, 2005.

ADDRESSES: Written statements may be submitted by any of the following methods:

Electronic Statements

• Use the Commission's Internet submission form (http://www.sec.gov/info/smallbus/acspc.shtml); or

• Send an e-mail message to rule-comments@sec.gov. Please include File Number 265-23 on the subject line; or

Paper Statements

• Send paper statements in triplicate to Jonathan G. Katz, Committee Management Officer, Securities and Exchange Commission, 100 F Street, NE., Washington, DC 20549-9303.

All submissions should refer to File No. 265-23. This file number should be included on the subject line if e-mail is used. To help us process and review your statement more efficiently, please use only one method. The Commission staff will post all statements on the Advisory Committee's Web site (http://www.sec.gov./info/smallbus/acspc.shtml).

Statements also will be available for public inspection and copying in the Commission's Public Reference Room, 100 F Street, NE., Washington, DC 20549. All statements received will be posted without change; we do not edit personal identifying information from submissions. You should submit only information that you wish to make available publicly.

Persons wishing to provide oral testimony at the Monday, September 19, session should contact one of the SEC staff persons listed below by September 9, 2005 and submit a written statement by the deadline for written statements. Sufficient time may not be available to accommodate all those wishing to provide oral testimony. The Co-Chairs of the Advisory Committee have reserved the right to select and limit the time of witnesses permitted to testify at the Advisory Committee meeting.

FOR FURTHER INFORMATION CONTACT: Kevin M. O'Neill, Special Counsel, at (202) 551-3260, or William A. Hines, Special Counsel, at (202) 551-3320, Office of Small Business Policy, Division of Corporation Finance, Securities and Exchange Commission, 100 F Street, NE., Washington, DC 20549-3628.

SUPPLEMENTARY INFORMATION: In accordance with Section 10(a) of the Federal Advisory Committee Act, 5 U.S.C.-App. 1, § 10(a), and the regulations thereunder, Gerald J. Laporte, Designated Federal Officer of the Committee, has ordered publication of this notice.

Jonathan G. Katz,
Committee Management Officer.

[FR Doc. 05-17166 Filed 8-29-05; 8:45 am]

BILLING CODE 8010-01-P